FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License no. | Name/address | Date reissued
3981NF | All-Cargo Express Inc., Lakeview Professional Village, 12558 West Atlantic Blvd., Coral Springs, FL 33071 | September 14, 2003.
16199NF | Global Container Line, Inc., dba Global Ocean Air Solutions, 2013 NW 79th Avenue, Miami, FL 33122 | February 21, 2001.
13579NF | JCW International Group, Inc., dba JCW Freight Systems, dba JCW Container Line, 380 Swift Avenue, South San Francisco, CA 94080 | July 12, 2003.
16039N | Neville Johnson dba P.J. Shipping Co., 111-19 Farmers Blvd., St. Albans, NY 11412 | June 21, 2003.

Sandra L. Kusumoto,
Director, Bureau of Consumer Complaints and Licensing.

[FR Doc. 03-27315 Filed 10-29-03; 8:45 am]

BILLING CODE 6730-01-P